DEPARTMENT OF DEFENSE

Office of the Secretary

Board of Visitors Meeting

AGENCY: Defense Acquisition University, DoD.

ACTION: Notice.

SUMMARY: The meeting of the Defense Acquisition University (DAU) Board of Visitors (BoV) will be held at the Defense Acquisition University, Capital and Northeast Region, 9820 Belvoir Road, Fort Belvoir, Virginia, from 0900-1500. The purpose of this meeting is to report back to the BoV on continuing items of interest.

DATES: September 24, 2003 from 9 a.m. to 3 p.m.

ADDRESSES: Defense Acquisition University, Capital and Northeast Region, 9820 Belvoir Road, Fort Belvoir, Virginia.

FOR FURTHER INFORMATION CONTACT: Ms. Particia Cizmadia at 703-805-5134.

SUPPLEMENTARY INFORMATION: The meeting is open to the public; however, because of space limitations, allocation of seating will be made on a first-come, first-served basis. Persons desiring to attend the meeting should call Ms. Patricia Cizmedia at 703-805-5134.

Dated: August 27, 2003.
Patricia L. Toppings,
Alternate OSD Federal Register Liaison Officer, Department of Defense.

[FR Doc. 03-22403 Filed 9-2-03; 8:45 am]

BILLING CODE 5001-08-M